DEPARTMENT OF ENERGY

Federal Energy Regulatory Commission

[Project No. 14628-001—Minnesota A-Mill Artist Lofts Hydroelectric Project]

Minneapolis Lease Housing Associates IV, Limited Partnership; Notice of Revised Restricted Service List for a Programmatic Agreement for Managing Properties Included In or Eligible for Inclusion in the National Register of Historic Places

On February 18, 2018, the Federal Energy Regulatory Commission (Commission) issued notice of a proposed restricted service list for the preparation of a programmatic agreement for managing properties included in, or eligible for inclusion in, the National Register of Historic Places at the proposed A-Mill Artist Lofts Hydroelectric Project No. 14628-001 (A-Mill Project). Rule 2010(d)(1) of the Commission's Rules of Practice and Procedure, 18 CFR 385.2010(d)(1) (2014), provides for the establishment of such a list for a particular phase or issue in a proceeding to eliminate unnecessary expense or improve administrative efficiency. Under Rule 385.2010(d)(4), persons on the official service list are to be given notice of any proposal to establish a restricted service list and an opportunity to show why they should also be included on the restricted service list or why a restricted service list should not be established.

On April 7, 2015, Amy Burnette, Tribal Historic Preservation Officer for the Leech Lake Band of Ojibwe, filed a letter stating that the Leech Lake Band of Ojibwe does not have any known recorded sites of religious or cultural importance in the proposed project boundary, but they would like to be informed if any human remains or cultural importance objects are discovered.

On February 20, 2015, the city of Minneapolis, requested to be a consulting party in that section 106 on the National Historic Preservation Act process so that it may stay apprised and provide project input.

Under Rule 385.2010(d)(2), any restricted service list will contain the names of each person on the official service list, or the person's representative, who, in the judgment of the decisional authority establishing the list, is an active participant with respect to the phase or issue in the proceeding for which the list is established. The Leech Lake Band of Ojibwe and the city of Minneapolis have identified an interest in issues relating to the management of historic properties at the A-Mill Project. Therefore, they and their representatives will be added to the restrictive service list.

Accordingly, the restricted service list issued on February 18, 2015, for the A-Mill Artist Lofts Project No. 14628 is revised to add the following persons:

Amy Burnette or representative, Division of Resource Management, Leech Lake Tribal Historic Preservation Office, 190 Sailstar Drive NE., Cass Lake, MN 56633.

Haila Maze, AICP, or representative, City of Minneapolis, Community Planning and Economic Development, 105 Fifth Avenue South—200, Minneapolis, MN 55401-2534.

Dated: April 29, 2015.
Kimberly D. Bose,
Secretary.

[FR Doc. 2015-10567 Filed 5-5-15; 8:45 am]

BILLING CODE 6717-01-P